DEPARTMENT OF COMMERCE

National Technical Information Service

Request for Nominations for Members To Serve on the National Technical Information Service (NTIS) Advisory Board

AGENCY: National Technical Information Service, Department of Commerce.

ACTION: Notice.

SUMMARY: NTIS invites nomination of individuals for appointment to the National Technical Information Service Advisory Board (Board or Committee). NTIS will consider nominations received in response to this notice for appointment to the Committee, in addition to nominations already received.

DATES: NTIS will accept nominations on a rolling basis. Members to fill the existing vacancies will be selected from nominations submitted by 5:00 p.m. on March 25th, 2025. Any nominations received after that date will be kept on file and may be used to fill vacancies on the Board should they occur.

ADDRESSES: Please submit nominations to Designated Federal Officer (DFO), NTIS at FACA@ntis.gov, Subject: NTIS Advisory Board Membership.

FOR FURTHER INFORMATION CONTACT: Bobby Khondker, (703) 605-6185, BKhondker@ntis.gov or Simone Gills, (703) 605-6586, sgills@ntis.gov.

SUPPLEMENTARY INFORMATION:

Committee Information

The Secretary of Commerce, pursuant to Section 212(c) of the National Technical Information Act of 1988 (15 U.S.C. 3704b(c)), established the Advisory Board, in accordance with the Federal Advisory Committee Act, as amended (FACA), 5 U.S.C. 1001 et seq.

Objectives and Duties

1. The NTIS Advisory Board shall review and make recommendations to improve NTIS programs, operations, and general policies in support of NTIS's mission to advance Federal data priorities, promote economic growth, and enable operational excellence by providing innovative data services to Federal agencies through joint venture partnerships with the private sector.

2. The Board shall report to the Secretary of Commerce and to the Under Secretary of Commerce for Standards and Technology through the Director of NTIS.

3. The Board shall act in the public interest to:

a. Provide advice on the optimal data services business and operating model to best implement NTIS's joint venture authority.

b. Provide advice on the means, including infrastructure and process improvements, to make Federal data easier to find, access, use, analyze, and combine.

c. Assess progress in evolving NTIS programs toward a focus on Federal data priorities.

d. Assess the use of merit-based criteria and processes to plan, conduct, and oversee programs and projects, including the selection of joint venture partners.

e. Assess policies in connection with fees and charges for NTIS services in order for the agency to operate on a substantially self-sustaining basis, as required by law.

f. Assess organizational capabilities required to carry out NTIS's mission, including capabilities in data science and for operational management of its project portfolio.

Membership

1. The NTIS Advisory Board shall be composed of a Chairperson appointed by the Secretary and four other members appointed by the Secretary. In the event of a vacancy in the Chairperson position, the NTIS Director may designate a member to serve as acting Chairperson until a Chairperson is appointed by the Secretary.

2. Members shall be selected solely on the basis of established records of distinguished service and objectivity; shall have recognized expertise in data collection, compilation, analysis, use, and dissemination, as well as data science, information technology, cybersecurity, and privacy. Members will be selected from the business, academic, non-profit, and state and local government communities. Reasonable efforts will be made to ensure members represent the entire spectrum of Federal data interests including demographic, economic, trade, health, scientific, patent, environmental, geospatial, cybersecurity, and transactional data. No Federal Government employee shall serve as a member of the Board.

3. The term of office of each member of the Board shall be three years, except that vacancy appointments shall be for the remainder of the unexpired term of the vacancy. All appointments shall automatically terminate if the charter is terminated or not renewed. All members serve at the pleasure of the Secretary.

4. Any person who has completed two consecutive full terms of service on the Board shall be ineligible for appointment for a third term during the one-year period following the expiration of the second term.

5. Members shall serve as Special Government Employees (SGEs) and will be subject to all ethical standards and rules applicable to SGEs.

Miscellaneous

1. Members of the Committee will not be paid for their services, but will, upon request, be allowed travel and per diem expenses in accordance with 5 U.S.C. 5701 et seq., while attending meetings of the Committee or of its subcommittees, or while otherwise performing duties at the request of the chairperson, while away from their homes or a regular place of business.

2. The Board shall meet at the call of the Secretary or the Secretary's designee, but not less often than once every six months.

3. NTIS may establish such subcommittees of its members as may be necessary, pursuant to the provisions of FACA, the FACA implementing regulations, and applicable Department of Commerce guidance. Subcommittees will report to the NTIS Advisory Board and may not provide advice or work products directly to the Department of Commerce or NTIS.

4. Recordkeeping. Records of the NTIS Advisory Board, any formally and informally established subcommittees, or other subgroups of the Board, shall be handled in accordance with General Records Schedule 6.2 or other approved agency records disposition schedule. These records shall be available for public inspection and copying, subject to the Freedom of Information Act (5 U.S.C. 552).

Nomination Information

1. NTIS seeks nominations of practitioners with recognized expertise in data collection, compilation, analysis, use, and dissemination, as well as data science, information technology, cybersecurity, and privacy.

2. Members will be selected from the business, academic, non-profit, and state and local government communities.

3. Reasonable efforts will be made to ensure members represent the entire spectrum of Federal data interests including demographic, economic,trade, health, scientific, patent, environmental, geospatial, cybersecurity, and transactional data. Collectively, their knowledge will include all types of data the Federal Government collects, compiles, analyzes, uses, and disseminates.

4. Nominees should have established records of distinguished service. The field of expertise in which the candidate is qualified should be specified in the nomination letter. Nominations for a particular field should come from organizations or individuals within that field. A summary of the candidate's qualifications should be included with the nomination, including (where applicable) current or former service on federal advisory boards and federal employment. In addition, each nomination letter should state that the person agrees to the nomination, acknowledges the responsibilities of serving on the board, and will actively participate in good faith in the tasks of the NTIS Advisory Board.

5. The Department of Commerce is committed to equal opportunity in the workplace and seeks a broad-based and diverse NTIS Advisory Board membership.

Rosio Harris,
Chief of Staff, National Technical Information Service.

[FR Doc. 2024-24439 Filed 10-21-24; 8:45 am]

BILLING CODE 3510-04-P